DEPARTMENT OF HEALTH AND HUMAN SERVICES

National Institutes of Health

Submission for OMB Review; 30 Day Comment Request Application Process for Clinical Research Training and Medical Education at the Clinical Center and Its Impact on Course and Training Program Enrollment and Effectiveness (Clinical Center)

AGENCY: National Institutes of Health, HHS.

ACTION: Notice.

SUMMARY: In compliance with the Paperwork Reduction Act of 1995, the National Institutes of Health (NIH) has submitted to the Office of Management and Budget (OMB) a request for review and approval of the information collection listed below.

DATES: Comments regarding this information collection are best assured of having their full effect if received within 30 days of the date of this publication.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: To obtain a copy of the data collection plans and instruments, contact: Robert M. Lembo, MD, Office of Clinical Research Training and Medical Education, NIH Clinical Center, National Institutes of Health, 10 Center Drive, Room 1N252C, Bethesda, MD 20892-1158, or call non-toll-free number (301) 496-2636, or Email your request, including your address to: robert.lembo@nih.gov.

SUPPLEMENTARY INFORMATION: This proposed information collection was previously published in the Federal Register on April 16, 2020, page 21255-21256 (85 FR 21255-21256) and allowed 60 days for public comment. One comment was received. The purpose of this notice is to allow an additional 30 days for public comment.

The Clinical Center, National Institutes of Health, may not conduct or sponsor, and the respondent is not required to respond to, an information collection that has been extended, revised, or implemented on or after October 1, 1995, unless it displays a currently valid OMB control number.

In compliance with Section 3507(a)(1)(D) of the Paperwork Reduction Act of 1995, the National Institutes of Health (NIH) has submitted to the Office of Management and Budget (OMB) a request for review and approval of the information collection listed below.

Proposed Collection Title: Application Process for Clinical Research Training and Medical Education at the NIH Clinical Center, OMB #0925-0698, Expiration date July 31, 2020, REVISION, National Institutes of Health Clinical Center (CC), National Institutes of Health (NIH).

Need and Use of Information Collection: The primary objective of the application process is to allow the Office of Clinical Research Training and Medical Education (OCRTME) at the NIH Clinical Center to evaluate applicants' qualifications to determine applicants' eligibility for courses and training programs managed by the Office. Applicants must provide the required information requested in the respective applications to be considered a candidate for participation. Information submitted by candidates for training programs is reviewed initially by OCRTME administrative staff to establish eligibility for participation. Eligible candidates are then referred to the designated training program director/administrator or training program selection committee for review and decisions regarding acceptance for participation. A secondary objective of the application process is to track enrollment in courses and training programs over time.

OMB approval is requested for 3 years. There are no costs to respondents other than their time. The total estimated annualized burden hours is 333.

Estimated Annualized Burden Hours
Form name | Type of respondents | Number of respondents | Number of responses per respondent | Average burden per response (in hours) | Total annual burden hours
Clinical Electives Program | Pre Doctoral Students | 300 | 1 | 20/60 | 100
Graduate Medical Education | Physicians | 100 | 1 | 20/60 | 33
Medical Research Scholars Program | Pre Doctoral Students | 200 | 1 | 20/60 | 67
Resident Electives Program | Physicians | 100 | 1 | 20/60 | 33
Bioethics Fellowship Program | Pre Doctoral, Post-Doctoral | 300 | 1 | 20/60 | 100
Total |  |  | 1000 |  | 333

Dated: June 25, 2020.
Laura M. Lee,
Project Clearance Liaison, NIH Clinical Center, National Institutes of Health.

[FR Doc. 2020-14057 Filed 6-29-20; 8:45 am]

BILLING CODE 4140-01-P